DEPARTMENT OF THE INTERIOR

Fish and Wildlife Service

[FWS-R3-ES-2010-N093; 30120-1113-0000-F6]

Endangered and Threatened Wildlife and Plants; Permit Applications

AGENCY: Fish and Wildlife Service, Interior.

ACTION: Notice of availability of permit applications; request for comments.

SUMMARY: We, the U.S. Fish and Wildlife Service, invite the public to comment on the following applications to conduct certain activities with endangered species. With some exceptions, the Endangered Species Act (Act) prohibits activities with endangered and threatened species unless a Federal permit allows such activity. The Act requires that we invite public comment before issuing these permits.

DATES: We must receive any written comments on or before June 7, 2010.

ADDRESSES: Send written comments by U.S. mail to the Regional Director, Attn: Peter Fasbender, U.S. Fish and Wildlife Service, Ecological Services, 1 Federal Drive, Fort Snelling, MN 55111-4056; or by electronic mail to permitsR3ES@fws.gov.

FOR FURTHER INFORMATION CONTACT: Peter Fasbender, (612) 713-5343.

SUPPLEMENTARY INFORMATION:

Background

We invite public comment on the following permit applications for certain activities with endangered species authorized by section 10(a)(1)(A) of the Act (16 U.S.C. 1531 et seq.) and our regulations governing the taking of endangered species in the Code of Federal Regulations (CFR) at 50 CFR part 17. Submit your written data, comments, or request for a copy of the complete application to the address shown in ADDRESSES.

Permit Applications

Permit Application Number: TE09357A.

Applicant: Ecological Specialties LLC, Symsonia, Kentucky.

The applicant requests a permit renewal/amendment to take (capture, radio-tag, and release) Indiana bats (Myotis sodalis), gray bats (Myotis grisescens), Ozark big-eared bats (Corynorhinus townsendii ingens), Virginia big-eared bats (Corynorhinus townsendii virginianus), Mexican long-nosed bats (Leptonycteris nivalis), and Sanborn's long-nosed bats (Leptonycteris sanborni (=yerbabuenae)) throughout the States of Arkansas, Alabama, California, Illinois, Indiana, Iowa, Michigan, Minnesota, Missouri, New Jersey, New Mexico, New York, Ohio, Pennsylvania, Tennessee, Texas, Virginia, and West Virginia to document presence/absence and distribution of the species and to conduct habitat use assessments. Proposed activities are aimed at enhancement of survival of the species in the wild.

Permit Application Number: TE010887A.

Applicant: U.S. Geological Survey, Great Lakes Science Center, Porter, Indiana.

The applicant requests a permit to take (capture, rear and release) Karner blue butterflies (Lycaeides melissa samuelis) throughout the range of the species in New York, Indiana, Michigan, and Wisconsin. Proposed activities involve capture of adult butterflies for captive rearing, experimental treatments on captive-reared larvae, and nonlethal tissue sampling in the wild. Population studies are designed to answer questions posed in the Karner blue butterfly recovery plan and are aimed at enhancement of survival of the species in the wild.

Permit Application Number: TE10891A.

Applicant: Illinois State Museum, Department of Natural Resources, Springfield, Illinois.

The applicant requests a permit renewal to take (capture and release, collect) Hine's emerald dragonfly (Somatochlora hineana) throughout the range of the species in the States of Alabama, Arkansas, Connecticut, Delaware, District of Columbia, Georgia, Illinois, Indiana, Iowa, Kentucky, Maine, Maryland, Massachusetts, Michigan, Minnesota, Missouri, New Hampshire, New Jersey, New York, North Carolina, Ohio, Oklahoma, Pennsylvania, Rhode Island, South Carolina, Tennessee, Vermont, Virginia, West Virginia, and Wisconsin. Proposed activities are for the recovery and enhancement of survival of the species in the wild.

Permit Application Number: TE212427.

Applicant: Ecology & Environment, Inc., Lancaster, New York.

The applicant requests an amendment to permit number TE212427 for the Indiana bat, Ozark big-eared bat, and gray bat. The applicant's request includes addition of qualified personnel and addition of the States of Iowa, Michigan, and Pennsylvania to their area of jurisdiction for conducting survey and assessment work. Activities are for the enhancement of survival of the species in the wild.

Permit Application Number: TE11035A.

Applicant: Robert J. Vande Kopple, University of Michigan, Pellston, Michigan.

The applicant requests a permit renewal to take (capture and release, collect) Hungerford's crawling water beetle (Brychius hungerfordi) throughout the States of Michigan and Wisconsin. Proposed activities include surveys to document presence of the species, habitat use, and scientific study related to recovery and enhancement of the survival of the species in the wild.

Public Comments

We seek public review and comments on these permit applications. Please refer to the permit number when you submit comments. Comments and materials we receive are available for public inspection, by appointment, during normal business hours at the address shown in the ADDRESSES section. Before including your address, phone number, e-mail address, or other personal identifying information in your comment, you should be aware that your entire comment—including your personal identifying information—may be made publicly available at any time. While you can ask us in your comment to withhold your personal identifying information from public review, we cannot guarantee that we will be able to do so.

National Environmental Policy Act (NEPA)

In compliance with NEPA (42 U.S.C. 4321 et seq.), we have made an initial determination that the proposed activities in these permits are categorically excluded from the requirement to prepare an environmental assessment or environmental impact statement (516 DM 6 Appendix 1, 1.4C(1)).

Dated: April 30, 2010.
Lynn M. Lewis,
Assistant Regional Director, Ecological Services, Region 3.

[FR Doc. 2010-10659 Filed 5-5-10; 8:45 am]

BILLING CODE 4310-55-P